DEPARTMENT OF HEALTH AND HUMAN SERVICES

Centers for Disease Control and Prevention

[30Day-06-05CB]

Agency Forms Undergoing Paperwork Reduction Act Review

The Centers for Disease Control and Prevention (CDC) publishes a list of information collection requests under review by the Office of Management and Budget (OMB) in compliance with the Paperwork Reduction Act (44 U.S.C. Chapter 35). To request a copy of these requests, call the CDC Reports Clearance Officer at (404) 639-5960 or send an e-mail to omb@cdc.gov. Send written comments to CDC Desk Officer, Office of Management and Budget, Washington, DC or by fax to (202) 395-6974. Written comments should be received within 30 days of this notice.

Proposed Project

The Continuous Miner Tramming Study Interviews—NEW—National Institute for Occupational Safety and Health (NIOSH), Centers for Disease Control and Prevention (CDC).

Background and Brief Description

The Federal Mine Safety & Health Act of 1977, section 501, enables CDC/NIOSH to carry out research relevant to the health and safety of workers in the mining industry. NIOSH is undertaking this project to investigate the hazards in underground mines associated with the work environment and mobile face equipment. This project will show how to reduce the likelihood of these hazards through human factors design considerations and/or engineering interventions. The specific aims are to (1) determine face equipment risk to the operator, (2) define the information cues operators need to perform their job tasks, (3) identify the types of changes operators could make to reduce their exposure from each of the environmental hazards that affect their safety.

The purpose of this study is to determine which mechanisms cause injuries to operators of mobile face equipment and find new ways to reduce injuries, work-related musculoskeletal disorders, and accidents. Industry participation will help researchers in their study to improve the health and safety of employees in the mining industry, specifically those who operate and maintain mobile face mining equipment. The information for this study will be collected by conducting one-on-one structured interviews with approximately 5 managers and 15 continuous miner operators at each of 10 mines located throughout the major coal producing regions of the US. This survey will last less than 1 year.

There are no costs to the respondents other than their time. The total estimated annualized burden hours are 250.

Estimated Annualized Burden Table
Type of responses or kinds of respondents | Number of respondents | Number of responses per respondent | Average burden per response (in hours)
Mine management (5 individuals from 10 mines) | 50 managers | 1 | 30/60
Continuous miner operators (15 individuals from 10 mines) | 150 operators | 2 | 45/60

Dated: March 6, 2006.
Joan F. Karr,
Acting Reports Clearance Officer, Centers for Disease Control and Prevention.

[FR Doc. E6-3721 Filed 3-14-06; 8:45 am]

BILLING CODE 4163-18-P